DEPARTMENT OF TRANSPORTATION

Federal Aviation Administration

14 CFR Part 39

[Docket No. 2000-NM-379-AD]

RIN 2120-AA64

Airworthiness Directives; Aerospatiale Model ATR42-200, -300, -320, and -500 Series Airplanes and Model ATR72 Series Airplanes

AGENCY: Federal Aviation Administration, DOT.

ACTION: Notice of proposed rulemaking (NPRM).

SUMMARY: This document proposes the adoption of a new airworthiness directive (AD) that is applicable to all Aerospatiale Model ATR42-200, -300, -320, and -500 series airplanes and all ATR72 series airplanes. This proposal would require revision of the Airplane Flight Manual (AFM) to modify procedures for takeoff when Type II or IV de-icing fluids have been used. This proposal is prompted by reports that use of these de-icing fluids is associated with an increase in the pitch forces necessary to rotate the airplane during takeoff and with other changes in performance. These changes could result in reduced controllability of the airplane. The action specified in this AD is intended to ensure that the flight crew is advised of the potential effects of Type II or IV de-icing fluids on the airplane's performance during takeoff and of the procedures necessary to address these effects.

DATES: Comments must be received by May 14, 2001.

ADDRESSES: Submit comments in triplicate to the Federal Aviation Administration (FAA), Transport Airplane Directorate, ANM-114, Attention: Rules Docket No. 2000-NM-379-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-379-AD” in the subject line and need not be submitted in triplicate. Comments sent via the Internet as attached electronic files must be formatted in Microsoft Word 97 for Windows or ASCII text.

The service information referenced in the proposed rule may be obtained from Aerospatiale, 316 Route de Bayonne, 31060 Toulouse, Cedex 03, France. This information may be examined at the FAA, Transport Airplane Directorate, 1601 Lind Avenue, SW., Renton, Washington.

FOR FURTHER INFORMATION CONTACT: Todd Thompson, Aerospace Engineer, International Branch, ANM-116, Transport Airplane Directorate, 1601 Lind Avenue SW., Renton, Washington 98055-4056; telephone (425) 227-1175; fax (425) 227-1149.

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-379-AD.” The postcard will be date stamped and returned to the commenter.

Availability of NPRMs

Any person may obtain a copy of this NPRM by submitting a request to the FAA, Transport Airplane Directorate, ANM-114, Attention: Rules Docket Number 2000-NM-379-AD, 1601 Lind Avenue, SW., Renton, Washington 98055-4056.

Discussion

The Direction Générale de l'Aviation Civile (DGAC), which is the airworthiness authority for France, notified the FAA that an unsafe condition may exist on all Aerospatiale Model ATR42 series airplanes and all Model ATR72 series airplanes. The DGAC advises that use of Type II or IV de-icing fluids prior to takeoff may affect the performance of the airplane on takeoff. The de-icing fluids are associated with an increase in the pitch forces necessary to rotate the airplane and other changes in performance, which could result in reduced controllability of the airplane.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Specifically, the FAA finds that the FAA-approved Airplane Flight Manual (AFM) for Model ATR42 series airplanes and Model ATR72 series airplanes should be revised to advise the flight crew that use of Type II or IV de-icing fluids prior to takeoff affects the performance of the airplane and that the flight crew needs to follow procedures, such as increasing the takeoff distance, to compensate for these effects. The FAA finds that such procedures currently are not defined adequately in the AFM for these airplanes.

Explanation of Requirements of Proposed Rule

Since an unsafe condition has been identified that is likely to exist or develop on other airplanes of the same type design registered in the United States, the proposed AD would require revising the Appendices and Supplements chapter of the AFM to modify procedures for takeoff when Type II or IV de-icing fluids have been used. The revision would ensure that flight crews are advised of the potential hazards related to takeoff after Type II or IV de-icing fluids have been used and the procedures to address them.

Cost Impact

The FAA estimates that 69 airplanes of U.S. registry would be affected by this proposed AD, that it would take approximately 1 work hour per airplane to accomplish the proposed revision of the AFM, and that the average labor rate is $60 per work hour. Based on these figures, the cost impact of the proposed AD on U.S. operators is estimated to be $4,140 or $60 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Aerospatiale: Docket 2000-NM-379-AD.

Applicability: All Model ATR42-200, -300, -320, and “500 series airplanes and all Model ATR72 series airplanes, certificated in any category.

Compliance: Required as indicated, unless accomplished previously.

To ensure that the flight crew is advised of the potential hazard associated with use of Type II of IV de-icing fluids prior to takeoff and the procedures necessary to address it, accomplish the following:

Revision of the Airplane Flight Manual

(a) Within 15 days after the effective date of this AD, revise the Appendices and Supplements chapter of the FAA-approved Airplane Flight Manual (AFM) by incorporating the manufacturer's Appendix on this issue or by including the following, which may be accomplished by including a copy of this AD in the AFM.

“Takeoff After Use of Fluid Type II or IV

This appendix applies only to aircraft de-iced or anti-iced before takeoff, using fluid Type II or IV.

These types of fluid may lead to an increase in control forces necessary to rotate, and then to a modification of takeoff performance.

Therefore, this flight manual must be modified as follows:

1. General

The general information in Section 1 is applicable.

2. Limitations

The limitations in Section 2 are applicable.

3. Normal Procedures

The normal procedures in Section 3 are applicable.

4. Emergency Procedures

The emergency procedures in Section 4 are applicable.

5. Procedures Following Failures

The procedures following failures in Section 5 are applicable.

6. Performances

The performances in Section 6 for dry runways and in Section 7.03 for non-dry runways (advisory materials) are applicable with the addition of the following for takeoff computations:

• Determine VR for the lowest available V2,

• Assume V1=VR,

• Increase TOR, TOD, ASD by 20%.

7. Appendices and Supplements

Data of Section 7 are applicable by adding what follows:

For the dispatch cases:

• Apply takeoff penalties due to the system failure,

• Then apply takeoff penalties due to the use of fluid Type II or IV.

Dispatch is not authorized in the following cases:

• Ferry flight with pitch elevators disconnected,

• Takeoff with flaps retracted.”

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 1: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Note 2: The subject of this AD is addressed in French airworthiness directives 2000-449-082(B) and 2000-448-053(B), both dated October 31, 2000.

Issued in Renton, Washington, on April 6, 2001.
Donald L. Riggin,
Acting Manager, Transport Airplane Directorate, Aircraft Certification Service.

[FR Doc. 01-9076 Filed 4-11-01; 8:45 am]

BILLING CODE 4910-13-P